DEPARTMENT OF ENERGY

Federal Energy Regulatory Commission

Combined Notice of Filings #1

Take notice that the Commission received the following electric corporate filings:

Docket Numbers: EC17-85-000.

Applicants: Entergy New Orleans, Inc.

Description: Supplement to February 24, 2017 Application for Approval under § 203 of the Federal Power Act of Entergy New Orleans, Inc.

Filed Date: 5/19/17.

Accession Number: 20170519-5058.

Comments Due: 5 p.m. ET 5/30/17.

Docket Numbers: EC17-119-000.

Applicants: Drift Sand Wind Project, LLC.

Description: Application for Authorization under § 203 of the Federal Power Act, Request for Shortened Notice Period, Expedited Consideration and Confidential Treatment of Drift Sand Wind Project, LLC.

Filed Date: 5/18/17.

Accession Number: 20170518-5183.

Comments Due: 5 p.m. ET 6/8/17.

Take notice that the Commission received the following electric rate filings:

Docket Numbers: ER17-1629-000.

Applicants: Niagara Mohawk Power Corporation, New York Independent System Operator, Inc.

Description: Section 205(d) Rate Filing: OATT 6.17 Schedule 17 re: Western New York Facilities Charge to be effective 7/18/2017.

Filed Date: 5/19/17.

Accession Number: 20170519-5007.

Comments Due: 5 p.m. ET 6/9/17.

Docket Numbers: ER17-1630-000.

Applicants: Duke Energy Progress, LLC, Duke Energy Florida, LLC, Duke Energy Carolinas, LLC.

Description: Section 205(d) Rate Filing: OATT Attachment C-2 Amendment Filing to be effective 7/19/2017.

Filed Date: 5/19/17.

Accession Number: 20170519-5052.

Comments Due: 5 p.m. ET 6/9/17.

Docket Numbers: ER17-1631-000.

Applicants: PJM Interconnection, L.L.C.

Description: Section 205(d) Rate Filing: Amendment to Service Agreement No. 4604; Queue Nos. U4-028/U4-029 to be effective 12/19/2016.

Filed Date: 5/19/17.

Accession Number: 20170519-5054.

Comments Due: 5 p.m. ET 6/9/17.

Take notice that the Commission received the following electric securities filings:

Docket Numbers: ES17-19-000.

Applicants: ITC Great Plains, LLC.

Description: Amendment to April 27, 2017 Application of ITC Great Plains, LLC under § 204 of the Federal Power Act and part 34 of the Commission's Regulations.

Filed Date: 5/19/17.

Accession Number: 20170519-5009.

Comments Due: 5 p.m. ET 5/30/17.

Docket Numbers: ES17-20-000.

Applicants: ITC Midwest LLC.

Description: Amendment to April 27, 2017 Application of Midwest LLC under § 204 of the Federal Power Act and part 34 of the Commission's Regulations.

Filed Date: 5/19/17.

Accession Number: 20170519-5010.

Comments Due: 5 p.m. ET 5/30/17.

Docket Numbers: ES17-21-000.

Applicants: International Transmission Company.

Description: Amendment to April 27, 2017 Application of International Transmission Company under § 204 of the Federal Power Act and part 34 of the Commission's Regulations.

Filed Date: 5/19/17.

Accession Number: 20170519-5011.

Comments Due: 5 p.m. ET 5/30/17.

Docket Numbers: ES17-22-000.

Applicants: Michigan Electric Transmission Company, LLC.

Description: Amendment to April 27, 2017 Application of Michigan Electric Transmission Company, LLC under § 204 of the Federal Power Act and part 34 of the Commission's Regulations.

Filed Date: 5/19/17.

Accession Number: 20170519-5012.

Comments Due: 5 p.m. ET 5/30/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 19, 2017.
Kimberly D. Bose,
Secretary.

[FR Doc. 2017-10819 Filed 5-25-17; 8:45 am]

BILLING CODE 6717-01-P